DEPARTMENT OF VETERANS AFFAIRS

[OMB Control No. 2900-New; DBQs—Group 1]

Agency Information Collection (Disability Benefits Questionnaires—Group 1) Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 7, 2011.

ADDRESSES: Submit written comments on the collection of information through http://www.Regulations.gov or to VA's OMB Desk Officer, OMB Human Resources and Housing Branch, New Executive Office Building, Room 10235, Washington, DC 20503, (202) 395-7316. Please refer to “OMB Control No. 2900-New (DBQs—Group 1)” in any correspondence.

FOR FURTHER INFORMATION CONTACT: Denise McLamb, Enterprise Records Service (005R1B), Department of Veterans Affairs, 810 Vermont Avenue, NW., Washington, DC 20420, (202) 461-7485, Fax (202) 461-0966 or e-mail denise.mclamb@va.gov. Please refer to “OMB Control No. 2900-New (DBQs—Group 1).”

SUPPLEMENTARY INFORMATION: Titles:

a. Hematologic and Lymphatic Conditions, Including Leukemia Disability Benefits Questionnaire, VA Form 21-0960B-2.

b. Amyotrophic Lateral Sclerosis (Lou Gehrig's Disease) Disability Benefits Questionnaire, VA Form 21-0960C-2.

c. Peripheral Nerve Conditions (Not Including Diabetic Sensory-Motor Peripheral Neuropathy) Disability Benefits Questionnaire, VA Form 21-0960C-10.

d. Persian Gulf and Afghanistan Infectious Diseases Disability Benefits Questionnaire, VA Form 21-0960I-1.

e. Tuberculosis Disability Benefits Questionnaire, VA Form 21-0960I-6.

f. Kidney Conditions (Nephrology) Disability Benefits Questionnaire, VA Form 21-0960J-1.

g. Male Reproductive System Conditions Disability Benefits Questionnaire, VA Form 21-0960J-2.

h. Prostate Cancer Disability Benefits Questionnaire, VA Form 21-0960J-3.

i. Neck (Cervical Spine) Disability Benefits Questionnaire, VA Form 21-0960M-13.

j. Back (Thoracolumbar Spine) Conditions Disability Benefits Questionnaire, VA Form 21-0960M-14.

k. Eating Disorders Disability Benefits Questionnaire, VA Form 21-0960P-1.

l. Mental Disorders (other than PTSD and Eating Disorders) Disability Benefits Questionnaire, VA Form 21-0960P-2.

m. Review Post Traumatic Stress Disorder (PTSD) Disability Benefits Questionnaire, VA Form 21-0960P-3.

OMB Control Number: 2900-New (DBQs—Group 1).

Type of Review: New collection.

Abstract: Data collected on VA Form 21-0960 series will be used to obtain information from claimants treating physician that is necessary to adjudicate a claim for disability benefits.

An agency may not conduct or sponsor, and a person is not required to respond to a collection of information unless it displays a currently valid OMB control number. The Federal Register Notice with a 60-day comment period soliciting comments on this collection of information was published on February 15, 2011, at pages 8846-8847.

Affected Public: Individuals or households.

Estimated Annual Burden:

a. VA Form 21-0960B-2—2,500.

b. VA Form 21-0960C-2—1,000.

c. VA Form 21-0960C-10—41,250.

d. VA Form 21-0960I-1—12,500.

e. VA Form 21-0960I-6—2,500.

f. VA Form 21-0960J-1—12,500.

g. VA Form 21-0960J-2—6,250.

h. VA Form 21-0960J-3—6,250.

i. VA Form 21-0960M-13—37,500.

j. VA Form 21-0960M-14—37,500.

k. VA Form 21-0960P-1—1,250.

l. VA Form 21-0960P-2—25,000.

m. VA Form 21-0960P-3—27,500.

Estimated Average Burden per Respondent:

a. VA Form 21-0960B-2—15 minutes.

b. VA Form 21-0960C-2—30 minutes.

c. VA Form 21-0960C-10—45 minutes.

d. VA Form 21-0960I-1—15 minutes.

e. VA Form 21-0960I-6—30 minutes.

f. VA Form 21-0960J-1—30 minutes.

g. VA Form 21-0960J-2—15 minutes.

h. VA Form 21-0960J-3—15 minutes.

i. VA Form 21-0960M-13—45 minutes.

j. VA Form 21-0960M-14—45 minutes.

k. VA Form 21-0960P-1—15 minutes.

l. VA Form 21-0960P-2—30 minutes.

m. VA Form 21-0960P-3—30 minutes.

Frequency of Response: On occasion.

Estimated Number of Respondents:

a. VA Form 21-0960B-2—10,000.

b. VA Form 21-0960C-2—2,000.

c. VA Form 21-0960C-10—55,000.

d. VA Form 21-0960I-1—50,000.

e. VA Form 21-0960I-6—5,000.

f. VA Form 21-0960J-1—25,000.

g. VA Form 21-0960J-2—25,000.

h. VA Form 21-0960J-3—25,000.

i. VA Form 21-0960M-13—50,000.

j. VA Form 21-0960M-14—50,000.

k. VA Form 21-0960P-1—5,000.

l. VA Form 21-0960P-2—50,000.

m. VA Form 21-0960P-3—55,000.

Dated: June 2, 2011.
By direction of the Secretary.
Denise McLamb,
Program Analyst, Enterprise Records Service.

[FR Doc. 2011-13962 Filed 6-6-11; 8:45 am]

BILLING CODE 8320-01-P